DEPARTMENT OF TRANSPORTATION

Federal Highway Administration

Notice of Final Federal Agency Actions on Proposed Highway in Idaho

AGENCY: Federal Highway Administration (FHWA), DOT.

ACTION: Notice of Limitation on Claims for Judicial Review of Actions by FHWA.

SUMMARY: This notice announces actions taken by the FHWA that are final within the meaning of 23 U.S.C. 139(I)(1). The actions relate to a proposed highway project, Idaho 16, I-84 to Idaho 44 in Ada and Canyon Counties in the State of Idaho [FHWA-ID-EIS-09-01-F, Federal Aid project number A-009(963), and Idaho Transportation Department (ITD), Key Number 009963].

DATES: By this notice, the FHWA is advising the public of final agency actions subject to 23 U.S.C. 139(I)(1). A claim seeking judicial review of the Federal agency actions on the highway project will be barred unless the claim is filed on or prior to January 29, 2012. If the Federal law that authorizes judicial review of a claim provides a time period of less than 180 days for filing such claim, then that shorter time period still applies.

FOR FURTHER INFORMATION CONTACT: For FHWA: Mr. Peter J. Hartman, Division Administrator, Federal Highway Administration, 3050 Lake Harbor Lane, Suite 126, Boise, ID 83703; telephone: (208) 334-9180; e-mail: Idaho.FHWA@dot.gov. The FHWA Idaho Division Office's normal business hours are 7 a.m. to 4:30 p.m. (Mountain Standard Time). For ITD: Ms. Sue Sullivan, Environmental Section Manager, Idaho Transportation Department, 3311 W. State St., P.O. Box 7129, Boise, ID 83707-1129; telephone: (208) 334-8203; e-mail: sue.sullivan@itd.idaho.gov. Normal business hours are 8 a.m. to 5 p.m. (Mountain Standard Time).

SUPPLEMENTARY INFORMATION: Notice is hereby given that the FHWA has taken final agency actions subject to 23 U.S.C. 139(I)(1) by issuing approvals for the following highway project in the State of Idaho: Idaho 16, I-84 to Idaho 44 in Ada and Canyon Counties. The project includes the acquisition of right-of-way (ROW), and the construction of a proposed extension of Idaho 16 across the Boise River to Interstate 84 (I-84).

The project includes:

• Construction of a four-lane access controlled divided highway (Idaho 16) from a new interchange at I-84, creating a new Boise River crossing, and connecting to existing Idaho 16 near Idaho 44 (State Street). The corridor width of approximately 300 feet will accommodate four travel lanes (two 12-foot-wide travel lanes in each direction), surface drainage features, and potential for future multimodal options.

• Acquisition of ROW from private property owners will be required to construct the new highway.

• Interchanges on Idaho 16 at the following locations: Franklin Road; Ustick Road; US 20/26 (Chinden Boulevard); and Idaho 44 (State Street).

• Grade-separated crossings (overpasses) at the Union Pacific Railroad (UPRR), Cherry Lane, McMillan Road, and Joplin Road.

• A Boise River crossing (single bridge).

• Rerouted and new local streets to maintain access from private properties to public ROWs.

• The project will be constructed in phases, designated as Phase 1 and Phase 2. Phase 1 begins with an at-grade intersection at US 20/26 (Chinden Boulevard) and continues north to an at-grade intersection with Idaho 44 (State Street) and joins with existing Idaho 16. Phase 2 includes constructing Idaho 16 between I-84 and US 20/26 (Chinden Boulevard) and includes replacement of the at-grade intersections at US 20/26 (Chinden Boulevard) and Idaho 44 (State Street) with interchanges. Highway segments for Phase 2 would be programmed and built as funds become available.

The actions by the FHWA, and the laws under which such actions were taken, are described in the Final Environmental Impact Statement (FEIS) for the project approved on February 8, 2011, in the FHWA Record of Decision (ROD) issued on April, 14, 2011, and in other documents in the FHWA project records. The Draft Environmental Impact Statement (DEIS), FEIS, ROD, and other project records are available by contacting the FHWA or the ITD at the addresses provided above.

The DEIS, FEIS, ROD, and published information regarding this project are posted and updated on the ITD Web site at http://itd.idaho.gov/projects/garvee/D3. Select “Idaho 16, I-84 to Idaho 44 Environmental Study.”

This notice applies to all Federal agency decisions as of the issuance date of this notice and all laws, as amended, under which such actions were taken, including but not limited to:

1. General: National Environmental Policy Act (NEPA) [42 U.S.C. 4321-4347]; Federal-Aid Highway Act [23 U.S.C. 109, 23 U.S.C. 128 and 23 U.S.C. 502]; Safe, Accountable, Flexible, Efficient Transportation Equity Act: A Legacy for Users (SAFETEA-LU) [23 U.S.C. 139].

2. Air and Noise: Clean Air Act [42 U.S.C. 7401-7671(q)]; Noise Standards: [23 U.S.C. 109(i)] (Pub. L. 91-605) (Pub. L. 93-87).

3. Wildlife: Endangered Species Act [16 U.S.C. 1531-1544]; Fish and Wildlife Coordination Act [16 U.S.C. 661-667(e)]; Migratory Bird Treaty Act [16 U.S.C. 703-712]; Bald and Golden Eagle Protection Act of 1940 [16 U.S.C. 668-668d].

4. Historic and Cultural Resources: Section 106 of the National Historic Preservation Act of 1966, as amended [16 U.S.C. 470f]; Archeological Resources Protection Act of 1979 [16 U.S.C. 470(aa)-470(mm)]; Archeological and Historic Preservation Act of 1974 [16 U.S.C. 469-469(c)].

5. Land: Section 4(f) of The Department of Transportation Act: [23 U.S.C. 138 and 49 U.S.C. 303]; The Farmland Protection Policy Act (FPPA) [7 U.S.C. 4201-4209];

6. Social and Economic: Civil Rights Act of 1964 [42 U.S.C. 2000(d)-2000(d)(1)];

7. Executive Orders: E.O. 11988 Floodplain Management; E.O. 11990 Protection of Wetlands; E.O. 12898, Federal Actions to Address Environmental Justice in Minority Populations and Low Income Populations; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(I)(1).

Peter J. Hartman,
Division Administrator, FHWA—Idaho Division, Boise, Idaho.

[FR Doc. 2011-19480 Filed 8-1-11; 8:45 am]

BILLING CODE 4910-22-P